DEPARTMENT OF COMMERCE

National Oceanic and Atmospheric Administration

RIN 0648-XA111

Notice of Availability of a Draft Framework for Ranking the Relative Importance of Puget Sound Chinook Salmon Populations and Watersheds for ESU Recovery and Delisting

AGENCY: National Marine Fisheries Service (NMFS), National Oceanic and Atmospheric Administration (NOAA), Commerce.

ACTION: Notice; reopening of comment period.

SUMMARY: NMFS is reopening the comment period for a draft technical framework for ranking recovery potential of populations of Puget Sound Chinook salmon and watersheds supporting them. The comment period is being reopened to provide additional opportunity for public comment.

DATES: Information and comments on the draft framework must be received at the appropriate address or fax number (see ADDRESSES), no later than 5 p.m. on February 22, 2011. We encourage the public's involvement in reviewing this framework.

ADDRESSES: Information and comments on this draft framework should be submitted to Garth Griffin, Chief, Protected Resources Division, NMFS. Comments may also be sent via facsimile (fax) to (503) 230-5435 or by e-mail. The framework document is also available on the Internet at http://www.nwr.noaa.gov/Salmon-Recovery-Planning/Recovery-Domains/Puget-Sound/PS-Chinook-Plan.cfm.

FOR FURTHER INFORMATION CONTACT: Elizabeth Babcock, NMFS, Northwest Region, (206) 526- 4505.

SUPPLEMENTARY INFORMATION:

Reopening of Comment Period

The comment period will be reopened through February 22, 2011.

Background

NMFS published a document in the Federal Register of December 29, 2010, concerning the availability of a draft technical framework for ranking recovery potential of populations of Puget Sound Chinook salmon and watersheds supporting them. The comment period for this action ended Friday, January 28, 2011. The comment period is being reopened to provide additional opportunity for public comment. The draft framework relies on the best available scientific information regarding the status and structure of Puget Sound Chinook salmon populations and their habitat. It builds on the work of the Puget Sound technical recovery team, which provided the technical foundation of the Puget Sound Chinook recovery plan (NMFS 2006).

Dated: January 31, 2011.
Therese Conant,
Acting Chief, Endangered Species Division, Office of Protected Resources, National Marine Fisheries Service.

[FR Doc. 2011-2535 Filed 2-3-11; 8:45 am]

BILLING CODE 3510-22-P